DEPARTMENT OF TRANSPORTATION

National Highway Traffic Safety Administration

Reports, Forms and Record Keeping Requirements; Agency Information Collection Activity Under OMB Review

AGENCY: National Highway Traffic Safety Administration, DOT.

ACTION: Correction notice.

SUMMARY: This document corrects the estimated total burden hours published on October 19, 2005 (70 FR 60878) for the Paperwork Reduction Act of 1995 (44 U.S.C. 3501 et seq., OMB Control Number 2127-0503.

DATES: Comments must be submitted on or before January 6, 2006.

FOR FURTHER INFORMATION CONTACT: Donovan Green, NHTSA 400 Seventh Street, SW., Room 5307—NVS-122, Washington, DC 20590. Mr. Green's telephone number is (202) 493-0248.

SUPPLEMENTARY INFORMATION: NHTSA is correcting an error in the Information Collection published in the Federal Register on October 19, 2005 (70 FR 60878). Specifically, NHTSA is correcting the estimated total annual burden from $3,611,460.00 to the estimated total annual burden hours of 265,702.

Since the correction made by this document is only to inform the public of previous agency actions, and do not impose any additional obligations on any party, NHTSA finds for good cause that the revisions made by this notice should be effective as soon as this notice is published in the Federal Register.

Issued in Washington, DC, on December 1, 2005.
H. Keith Brewer,
Director, Office of Crash Avoidance Standards.

[FR Doc. E5-6917 Filed 12-6-05; 8:45 am]

BILLING CODE 4910-59-P